DEPARTMENT OF STATE

[Public Notice No. 3494]

Advisory Committee Meeting on Law Applicable to Securities Intermediaries; Meeting Notice

The Advisory Committee on Private International Law will hold a study group meeting on Friday January 5, 2001 on law applicable to securities intermediaries, and in particular the law applicable to dispositions of securities held through an indirect holding system. The meeting will be held at the Federal Reserve Bank of New York.

The meeting will provide an opportunity for public comment on developments in the securities transaction field, including clearance and settlement and the role of indirect holding systems, with regard to possible international rules to determine law applicable to those transactions. The meeting will facilitate preparation of United States positions in connection with the work of international organizations affecting private law aspects of this topic, including the Hague Conference on Private International Law project to prepare rules on law applicable to intermediaries. A secondary topic will be the feasibility of harmonized substantive rules for consideration by other international bodies, such as the United Nations Commission on International Trade Law (UNCITRAL), or by regional groups of states.

The agenda, subject to availability of time, will include a review of developments involving direct and indirect holders of securities, transfers of interest, dematerialization and immobilization of securities, and the systemic role of multiple indirect holding systems. The meeting will also examine whether harmonization through national law, industry or commercial sector rules, or by international treaty is feasible and is necessary. Among other issues, an applicable law regime might address what law governs transfers of securities held through custodial accounts and financial intermediaries; the rights to securities in custodial accounts; the rights of owners of securities as well as entities secured thereby; the relation to third party creditors; and the legal nature of interests in securities held by such intermediaries or through central clearing systems.

Documentation for the meeting will includes a recent study by the Permanent Bureau of the Hague Conference concerning “law applicable to dispositions of securities held through indirect holding systems. The document may be obtained at www.hcch.net, or from the Office of the Assistant Legal Adviser for Private International Law by contacting Rosie Gonzales at 202 776-8420 or by fax 202-776-8482.

Attendance: The public is invited to attend up to the capacity of the meeting room and may participate subject to the rulings of the chair. The meeting will take place at 10 a.m. to 3 pm at the New York Federal Reserve Bank at 33 Liberty Street, NYC in the 10th Floor Board Room. Since access to the building is controlled, persons wishing to attend should, prior to cob Wednesday, January 3, Joyce Hansen, Sr. Vice President, New York Federal Reserve, phone: 212-720-5024; fax: 212-720-1756 or contact Harold Burman, Office of the Legal Adviser, 202-776-8421; fax: 202 776-8482.

Harold S. Burman,
Executive Director, Secretary of State's Advisory Committee on Private International Law, U.S.Department of State.

[FR Doc. 00-32410 Filed 12-19-00; 8:45 am]

BILLING CODE 4710-08-P